DEPARTMENT OF JUSTICE

28 CFR Part 106

[JMD Docket No. 157; A.G. Order No. 5922-2024]

RIN 1105-AB71

Implementation of HAVANA Act of 2021; Correction

AGENCY: Department of Justice.

ACTION: Interim final rule; correction.

SUMMARY: The Department of Justice is correcting an interim final rule titled “Implementation of HAVANA Act of 2021” that appeared in the Federal Register on April 19, 2024. The document implemented the HAVANA Act, which authorizes agency heads to provide payments to certain individuals who have incurred qualifying injuries to the brain. The interim final rule covers current and former Department of Justice employees and their dependents.

DATES: This correction is effective May 20, 2024.

FOR FURTHER INFORMATION CONTACT: Morton J. Posner, General Counsel, Justice Management Division, (202) 514-3452.

SUPPLEMENTARY INFORMATION:

Need for Correction

On April 19, 2024, the Department of Justice published an interim final rule and request for comments in the Federal Register at 89 FR 28633 that provided for the Department's implementation of the HAVANA Act of 2021, Public Law 117-46, 135 Stat. 391 (2021) (codified at 22 U.S.C. 2680b(i)). The HAVANA Act authorizes agency heads to provide payments to certain individuals who have incurred qualifying injuries to the brain. The interim final rule covers current and former Department of Justice employees and their dependents.

This document corrects an error in the numbering of two paragraphs in the interim final rule published on April 19, 2024. In § 106.1, the two paragraphs designated as (1) and (2) should have been designated as paragraphs (a) and (b).

Federal Register Correction

In FR Doc. 2024-08336, appearing on page 28633 in the Federal Register of Friday, April 19, 2024, the following correction is made:

§ 106.1 [Corrected]

On page 28636, in the third column, in § 106.1, redesignate paragraphs (1) and (2) as paragraphs (a) and (b).

Dated: April 29, 2024.
Rosemary Hart,
Special Counsel, U.S. Department of Justice.

[FR Doc. 2024-09593 Filed 5-2-24; 8:45 am]

BILLING CODE 4410-AR-P